DEPARTMENT OF COMMERCE

International Trade Administration

[A-469-821]

Prestressed Concrete Steel Wire Strand From Spain: Preliminary Results of Antidumping Duty Administrative Review; 2023-2024

AGENCY: Enforcement and Compliance, International Trade Administration, Department of Commerce.

SUMMARY: The U.S. Department of Commerce (Commerce) preliminarily determines that the producer/exporter subject to this administrative review made sales of subject merchandise at less than normal value (NV) during the period of review (POR), June 1, 2023, through May 31, 2024. We invite interested parties to comment on these preliminary results.

DATES: Applicable October 3, 2025.

FOR FURTHER INFORMATION CONTACT: Lilit Astvatsatrian, AD/CVD Operations, Office IX, Enforcement and Compliance, International Trade Administration, U.S. Department of Commerce, 1401 Constitution Avenue NW, Washington, DC 20230; telephone: (202) 482-6412.

SUPPLEMENTARY INFORMATION:

Background

On June 4, 2021, Commerce published the antidumping duty order on prestressed concrete steel wire strand (PC strand) from Spain in the Federal Register.¹ On July 29, 2024, based on timely requests for review from the petitioners ² and Global Special Steel Products S.A.U. (d.b.a. Trenzas y Cables de Acero PSC, S.L.) (TYCSA),³ we initiated an administrative review of the Order with respect to one company, TYCSA.⁴

¹ See Prestressed Concrete Steel Wire Strand from Indonesia, Italy, Malaysia, South Africa, Spain, Tunisia, and Ukraine: Antidumping Duty Orders, 86 FR 29998 (June 4, 2021) (Order).

² The petitioners are Insteel Wire Products Company, Sumiden Wire Products Corporation, and Wire Mesh Corporation.

³ See Petitioners' Letter, “Petitioners' Request for Initiation of 2023-2024 Administrative Review,” dated June 27, 2024; See TYCSA's Letter, “Request for Antidumping Duty Administrative Review,” dated June 28, 2024.

⁴ See Initiation of Antidumping and Countervailing Duty Administrative Reviews, 89 FR 60871 (July 29, 2024).

On December 9, 2024, Commerce tolled certain deadlines in this administrative proceeding by 90 days.⁵ On May 22, 2025, we extended the deadline for the preliminary results of this administrative review to no later than August 27, 2025,⁶ and on August 14, 2025, we extended the deadline for the preliminary results of this administrative review to no later than September 26, 2025.⁷ For a complete description of the events that followed the initiation of this review, see the Preliminary Decision Memorandum.⁸

⁵ See Memorandum, “Tolling of Deadlines for Antidumping and Countervailing Duty Proceedings,” dated December 9, 2024.

⁶ See Memorandum, “Extension of Deadline for Preliminary Results of Antidumping Duty Administrative Review,” dated May 22, 2025.

⁷ See Memorandum, “Extension of Deadline for Preliminary Results of 2023-2024 Antidumping Duty Administrative Review,” dated August 14, 2025.

⁸ See Memorandum, “Decision Memorandum for the Preliminary Results of the 2023-2024 Administrative Review of the Antidumping Duty Order on Prestressed Concrete Steel Wire Strand from Spain,” dated concurrently with, and hereby adopted by, this notice (Preliminary Decision Memorandum).

A list of topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade/gov/public/FRNoticesListLayout.aspx.

Scope of the Order

The product subject to the Order is PC strand from Spain. For a full description of the scope of the Order, see the Preliminary Decision Memorandum.

Methodology

Commerce is conducting this review in accordance with section 751(a) of the Tariff Act of 1930, as amended (the Act). We calculated export price and constructed export price in accordance with section 772 of the Act. We calculated NV in accordance with section 773 of the Act. For a full description of the methodology underlying these preliminary results, see the Preliminary Decision Memorandum.

Preliminary Results of the Review

As a result of this review, we preliminarily determine the following estimated weighted-average dumping margin exists for the period June 1, 2023, through May 31, 2024:

Producer or exporter | Weighted-average dumping margin (percent)
Global Special Steel Products S.A.U. (d.b.a. Trenzas y Cables de Acero PSC, S.L.) | 13.14

Disclosure

Commerce intends to disclose to interested parties its calculations performed in these preliminary results, within five days of any public announcement or, if there is no public announcement, within five days of the date of publication of this notice in the Federal Register, in accordance with 19 CFR 351.224(b).

Public Comment

Case briefs or other written comments may be submitted to the Assistant Secretary for Enforcement and Compliance.⁹ Pursuant to 19 CFR 351.309(c)(1)(ii), we have modified the deadline for interested parties to submit case briefs to Commerce no later than 21 days after the date of the publication of this notice. Rebuttal briefs, limited to issues raised in the case briefs, may be filed not later than five days after the date for filing case briefs.¹⁰ Interested parties who submit case briefs or rebuttal briefs in this proceeding must submit: (1) a table of contents listing each issue; and (2) a table of authorities.¹¹

⁹ See 19 CFR 351.309(c)(1)(ii); see also 19 CFR 351.303 (for general filing requirements).

¹⁰ See 19 CFR 351.309(d); see also Administrative Protective Order, Service, and Other Procedures in Antidumping and Countervailing Duty Proceedings, 88 FR 67069, 67077 (September 29, 2023) (APO and Service Procedures).

¹¹ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹² Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹³

¹² We use the term “issue” here to describe an argument that Commerce would normally address in a comment of the Issues and Decision Memorandum.

¹³ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Final Results of Review

Unless otherwise extended, Commerce intends to issue the final results of this administrative review, including the results of its analysis of the issues raised in any written briefs, no later than 120 days after the date of publication of this notice in the Federal Register, pursuant to section 751(a)(3)(A) of the Act and 19 CFR 351.213(h)(1).

Assessment Rates

Upon completion of this administrative review, pursuant to section 751(a)(2)(A) of the Act, Commerce shall determine, and U.S. Customs and Border Protection (CBP) shall assess, antidumping duties on all appropriate entries covered by this review.

Pursuant to 19 CFR 351.212(b)(1), we calculated importer-specific ad valorem duty assessment rates based on the ratio of the total amount of dumping calculated for the examined sales to the total entered value of those sales. Where either the respondent's weighted-average dumping margin is zero or de minimis within the meaning of 19 CFR 351.106(c)(1), or an importer specific assessment rate is zero or de minimis, we will instruct CBP to liquidate the appropriate entries without regard to antidumping duties. The final results of this review shall be the basis for the assessment of antidumping duties on entries of merchandise covered by this review and for future deposits of estimated duties, where applicable.¹⁴

¹⁴ See section 751(a)(2)(C) of the Act.

In accordance with Commerce's “automatic assessment” practice, for entries of subject merchandise during the POR produced by TYCSA for which the company did not know that the merchandise was destined for the United States, we will instruct CBP to liquidate those entries at the all-others rate established in the less-than-fair-value (LTFV) investigation (i.e., 14.75 percent),¹⁵ if there is no rate for the intermediate company(ies) involved in the transaction.¹⁶

¹⁵ See Order.

¹⁶ For a full description of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for the company listed above will be equal to the weighted average dumping margin established in the final results of this administrative review, except if the rate is less than 0.50 percent and therefore, de minimis within the meaning of 19 CFR 351.106(c)(1), in which case the cash deposit rate will be zero; (2) for previously reviewed or investigated companies not covered in this review, the cash deposit rate will continue to be the company-specific rate published for the most recently-completed segment of this proceeding in which the company was reviewed; (3) if the exporter is not a firm covered in this review, a prior review, or the LTFV investigation, but the producer is, then the cash deposit rate will be the rate established for the most recently-completed segment of this proceeding for the producer of the merchandise; and (4) the cash deposit rate for all other producers or exporters will continue to be 14.75 percent, the all-others rate established in the LTFV investigation.¹⁷ These deposit requirements, when imposed, shall remain in effect until further notice.

¹⁷ See Order.

Notification to Importers

This notice serves as a preliminary reminder to importers of their responsibility under 19 CFR 351.402(f) to file a certificate regarding the reimbursement of antidumping and/or countervailing duties prior to liquidation of the relevant entries during this POR. Failure to comply with this requirement could result in Commerce's presumption that reimbursement of antidumping duties occurred and the subsequent assessment of doubled antidumping duties.

Notification to Interested Parties

We are issuing and publishing these results in accordance with sections 751(a)(1) and 777(i)(1) of the Act, and 19 CFR 351.213(h)(2) and 351.221(b)(4).

Dated: September 26, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Discussion of the Methodology

V. Recommendation

[FR Doc. 2025-19408 Filed 10-2-25; 8:45 am]

BILLING CODE 3510-DS-P